DEPARTMENT OF TRANSPORTATION

Federal Aviation Administration

Notice of Intent To Rule on Request for a Land Exchange at the Double Eagle II Airport, Albuquerque, NM

AGENCY: Federal Aviation Administration (FAA), DOT.

ACTION: Notice of Request for the Double Eagle II Airport to exchange land with the State of New Mexico.

SUMMARY: The FAA proposes to rule and invites public comment on the exchange of property at the Double Eagle II Airport, Albuquerque, New Mexico. The city of Albuquerque as an airport owner has requested to exchange a tract of land that is currently on the north property line of the airport for a tract of land at the south center part of the airport. The land on the north to be exchanged requires release from any and all provisions of all applicable Grant Agreements and Grant Assurances, and to change forever, the lands exchanged from aeronautical to non-aernautical use under the provisions of Section 125 of the Wendell H. Ford Aviation Investment Reform Act for the 21st Century (AIR 21). The state of New Mexico will exchange a section of land of equal land size immediately south of the intersection of the two established runways.

DATES: Comments must be received on or before April 18, 2007.

ADDRESSES: Comments on this application may be mailed or delivered to the FAA at the following address: Mr. Lacey D. Spriggs, Manager, Federal Aviation Administration, Southwest Region, Airports Division, Louisiana/New Mexico Airports Development Office, ASW-640, Fort Worth, Texas 76193-0640.

In addition, one copy of any comments submitted to the FAA must be mailed or delivered to Mr. Jim Hinde, City of Albuquerque, Aviation Department, PO Box 9948, Albuquerque, New Mexico.

FOR FURTHER INFORMATION CONTACT: Mr. Mike Saupp, Program Manager, Federal Aviation Administration, LA/NM Airports Development Office, ASW-640e, 2601 Meacham Boulevard, Fort Worth, Texas 76193-0640.

The request to release property may be reviewed in person at this same location.

SUPPLEMENTARY INFORMATION: The FAA invites public comment on the request to exchange of this property in that: the release of the northern property from the Grant Assurances; incorporation of the southern property into dedicated airport property, all under the provisions of AIR 21.

The following is a brief overview of the request:

The city of Albuquerque as owner of the Double Eagle II Airport has requested of the Federal Aviation Administration to exchange approximately 52 acres for land of the same size adjacent to the airport. The northern tract is 375 feet wide by 6,000 feet long of the existing Double Eagle II Airport, for a parcel 2,120 feet wide and 1,062 deep located in the south central part but off the airport. This southern part is located between Runways 4/22 and 17/35 and adjacent to the parallel taxiways to both runways. This exchange shall protect the line of sight for aircraft operating on these separate runways. The lands of the northern tract will be changed from aeronautical to non-aeronautical use and the lands released from the conditions of the Airport Improvement Program Grant Agreement Grant Assurances. Upon this exchange the Assurances of the Grant Agreements shall hereafter apply to the south tract of land.

Any person may inspect the request in person at the FAA office listed above under FOR FURTHER INFORMATION CONTACT.

In addition, any person may, upon request, inspect the application, notice and other documents germane to the application in person at the office of Mr. Jim Hinder, Albuquerque Sunport Offices, Terminal Building, Albuquerque, NM.

Dated: Issued in Forth Worth, Texas on March 12, 2007.
D. Cameron Bryan,
Acting Manager, Airports, Division.

[FR Doc. 07-1299 Filed 3-16-07; 8:45 am]

BILLING CODE 4910-13-M